DEPARTMENT OF STATE

[Public Notice 4417]

Notice of Receipt of Application for a Presidential Permit for Pipeline Facilities To Be Constructed and Maintained on the Border of the United States

AGENCY: Department of State, Office of International Energy and Commodities Policy.

ACTION: Notice.

Notice is hereby given that the Department of State has received an application from Valero Logistics Operations, L.P. (Valero) for a Presidential permit, pursuant to Executive Order 11423 of August 16, 1968, as amended by Executive Order 12847 of May 17, 1993 and Executive Order 13284 of January 23, 2003, authorizing the construction, connection, operation, and maintenance at the U.S.-Mexican border in the vicinity of Laredo, Texas of a liquid pipeline capable of carrying liquefied petroleum gas (LPG), and related facilities.

Valero is a corporation organized and existing under the laws of the State of Texas and with its principal office located in San Antonio, Texas. The proposed new 8⅝ inch diameter pipeline would originate at an existing Valero pipeline system in Laredo, Texas and cover approximately 10.4 miles, crossing under the Rio Grande River and terminating at a new pipeline that will be constructed, owned and operated by Valero Internacional, S. de R.L. de C.V., a subsidiary of Valero, in Nuevo Laredo, Tamaulipas, Mexico. It is anticipated that initial contract deliveries of LPG to Mexico will be 150,000 barrels per month in Nuevo Laredo, but the pipeline capacity would be approximately 32,400 barrels of LPG per day in either direction.

As required by E.O. 11423, the Department of State is circulating this application to concerned federal agencies for comment.

DATES: Interested parties are invited to submit, in duplicate, comments relative to this proposal on or before August 28, 2003, to Pedro Erviti, Office of International Energy and Commodities Policy, Department of State, Washington, DC 20520. The application and related documents that are part of the record to be considered by the Department of State in connection with this application are available for inspection in the Office of International Energy and Commodities Policy during normal business hours.

FOR FURTHER INFORMATION CONTACT: Pedro Erviti, Office of International Energy and Commodities Policy (EB/ESC/IEC/EPC), Department of State, Washington, DC 20520; or by telephone at (202) 647-1291; or by fax at (202) 647-4037.

Dated: July 21, 2003.
Matthew T. McManus,
Acting Director, Office of International Energy and Commodities Policy, Department of State.

[FR Doc. 03-18999 Filed 7-28-03; 8:45 am]

BILLING CODE 4710-07-P